DEPARTMENT OF DEFENSE

Office of Secretary

[Docket ID DoD-2012-OS-0032]

Privacy Act of 1974; System of Records

AGENCY: National Security Agency/Central Security Service.

ACTION: Notice to Delete a System of Records.

SUMMARY: The National Security Agency/Central Security Service is deleting a system of records notice from its existing inventory of record systems subject to the Privacy Act of 1974 (5 U.S.C. 552a), as amended.

DATES: This proposed action will be effective on June 4, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Anne Hill, National Security Agency/Central Security Service, Freedom of Information Act and Privacy Act Office, 9800 Savage Road, Suite 6248, Ft. George G. Meade, MD 20755-6248 or at (301) 688-6527.

SUPPLEMENTARY INFORMATION: The National Security Agency systems of records notice subject to the Privacy Act of 1974, (5 U.S.C. 552a), as amended, have been published in the Federal Register and are available from the address in FOR FURTHER INFORMATION CONTACT.

The National Security Agency proposes to delete a system of records notice from its inventory of record systems subject to the Privacy Act of 1974 (5 U.S.C. 552a), as amended. The proposed deletion is not within the purview of subsection (r) of the Privacy Act of 1974 (5 U.S.C. 552a), as amended, which requires the submission of a new or altered system report.

Dated: April 18, 2012.
Patricia Toppings,
OSD Federal Register Liaison Officer, Department of Defense.

Deletion

GNSA 23

NSA/CSS Operations Security Support Program and Training Files (May 19, 2008, 73 FR 28804).

Reason:

The category of records in this system has substantially changed. The Interagency Operations Security Support Staff now collects and maintains only name and business information (work address, work telephone number, work fax number, and agency/organization/affiliate). Social Security Numbers are no longer collected and personal and home information is no longer maintained. As the Interagency Operations Security Support Staff no longer collects and maintains personally identifiable information, this notice can be deleted.

[FR Doc. 2012-10653 Filed 5-2-12; 8:45 am]

BILLING CODE 5001-06-P